DEPARTMENT OF ENERGY

Privacy Act of 1974; Publication of Proposed Compilation of Privacy Act System of Records; Correction

AGENCY: Department of Energy.

ACTION: Notice; correction.

SUMMARY: The Department of Energy published a notice in the Federal Register on April 2, 2008 of the proposed compilation of the Privacy Act System of Records. This notice corrects the date for responding to comments and the effective date.

FOR FURTHER INFORMATION CONTACT: Verlette L. Gatlin, (202) 586-5955.

Correction

In the Federal Register of April 2, 2008, FR Doc. E8-6239, on page 18044, the following correction is made to the DATES section:

DATES: Any interested person may submit written comments concerning the proposed changes to DOE's Privacy Act Systems of Records by May 9, 2008. Except for proposed exemptions that may require separate notice and comment rulemaking, the changes proposed in this notice will be effective May 9, 2008 unless DOE receives comments that require a contrary determination. DOE will publish a document in the Federal Register notifying the public if any changes are necessary.

Issued in Washington, DC on April 3, 2008.
Ingrid Kolb,
Director, Office of Management.

[FR Doc. E8-7441 Filed 4-8-08; 8:45 am]

BILLING CODE 6450-01-P